DEPARTMENT OF DEFENSE

Department of the Air Force

[Docket ID: USAF-2012-0003]

Privacy Act of 1974; System of Records

AGENCY: Department of the Air Force, DoD.

ACTION: Notice to amend a system of records.

SUMMARY: The Department of the Air Force is amending a system of records notice in its existing inventory of record systems subject to the Privacy Act of 1974 (5 U.S.C. 552a), as amended.

DATES: This proposed action will be effective on February 27, 2012 unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air Force Privacy Office, Air Force Privacy Act Office, Office of Warfighting Integration and Chief Information officer, ATTN: SAF/XCPPI, 1800 Air Force Pentagon, Washington DC 20330-1800 or at (202) 404-6575.

SUPPLEMENTARY INFORMATION: The Department of the Air Force systems of records notices subject to the Privacy Act of 1974, (5 U.S.C. 552a), as amended, have been published in the Federal Register and are available from the address in FOR FURTHER INFORMATION CONTACT.

The Department of the Air Force proposes to amend one system of records notice from its inventory of record systems subject to the Privacy Act of 1974 (5 U.S.C. 552a), as amended. The proposed amendment is not within the purview of subsection (r) of the Privacy Act of 1974 (5 U.S.C. 552a), as amended, which requires the submission of a new or altered system report.

Dated: January 24, 2012.
Aaron Siegel,
Alternate OSD Federal Register Liaison Officer, Department of Defense.

F036 AF PC H

System Name:

Air Force Enlistment/Commissioning Records System (June 11, 1997, 62 FR 31793).

Changes:

* * * * *

System location:

Delete entry and replace with “Air Force Personnel Center, 550 C Street West, Randolph Air Force Base, TX 78150-4703; Headquarters Recruiting Service, 550 D Street West, Randolph Air Force Base, TX 78150-4527; Recruiting Offices; Military Entrance Processing Stations, and Liaison Noncommissioned Officer offices in all states. Official mailing addresses are published as an appendix to the Air Force's compilation of systems of records notices.”

* * * * *

Authority for maintenance of the system:

Delete entry and replace with “10 U.S.C. Chapter 31, Enlistments; Air Force Instruction 36-2002, Regular Air Force and Special Category Accessions; Air Force Instruction 36-2013, Officer Training School (OTS) and Enlisted Commissioning Programs (ECPS); and E.O. 9397 (SSN), as amended.”

* * * * *

Storage:

Delete entry and replace with “Paper files maintained in file folders/cabinets.”

* * * * *

Retention and disposal:

Delete entry and replace with “Commissioning records at Headquarters Recruiting Service are maintained for one year. Files of applicants not enlisted are retained in the local recruiting office and destroyed after two years. Records of commissioned officers and enlistees that are not forwarded to Master and Unit Personnel Records files are destroyed after two years. Records are destroyed by tearing into pieces, burning, shredding, macerating or pulping.”

System manager(s) and address:

Delete entry and replace with “Commander, Air Force Personnel Center, 550 C Street West, Randolph Air Force Base, TX 78150-4703; Commander, Headquarters Recruiting Service, 550 D Street West, Randolph Air Force Base, TX 78150-4527.”

Notification procedure:

Delete entry and replace with “Individuals seeking to determine whether information about themselves is contained in this system of records should address written inquiries to the system manager or recruiting officials at the respective recruiting office location. Official mailing addresses are published as an appendix to the Air Force's compilation of systems of records notices. Written request should contain individual's full name and SSN.”

Record access procedures:

Delete entry and replace with “Individuals seeking access to information about themselves contained in this system of records should address written inquiries to the system manager or recruiting officials at the respective recruiting office location. Official mailing addresses are published as an appendix to the Air Force's compilation of systems of record notices. Written request should contain individual's full name and SSN.”

Contesting record procedures:

Delete entry and replace with “The Air Force rules for accessing records, and for contesting contents and appealing initial agency determinations are published in Air Force Instruction 33-332, Air Force Privacy Program; 32 CFR part 806b; or may be obtained from the system manager.”

* * * * *

[FR Doc. 2012-1799 Filed 1-26-12; 8:45 am]

BILLING CODE 5001-06-P